DEPARTMENT OF THE INTERIOR

Environmental Statements; Notice of Intent

AGENCY: National Park Service.

ACTION: Notice of intent for a General Management Plan/Environmental Impact Statement for Monocacy National Battlefield (NB), Maryland.

SUMMARY: Under the provisions of the National Environmental Policy Act of 1969, the National Park Service (NPS) is preparing an environmental impact statement for the general management plan (GMP) for Monocacy National Battlefield. The planning effort will result in a comprehensive general management plan that encompass preservation of cultural and natural resources, visitor use and interpretation, and necessary and appropriate facilities. In cooperation with local interests, attention will also be given to resources outside the boundaries that affect the integrity of the battlefield. Alternatives to be considered include no-action, the preferred alternative, and other alternatives addressing the following major issues:

• How can the important natural and cultural resources be best protected and preserved, while providing for visitor use for present and future generations?

• What level and type of use is appropriate to be consistent with the park's purpose and to relate to the park's significance?

• What facilities are needed to meet the mission goals of the park regarding natural and cultural resource management, visitor use and interpretation, partnerships, and operations?

The NPS is planning to hold public scoping meetings regarding the project during the week of July 29, 2002. Specific dates, times, and locations will be announced in the local media, and can be obtained by contacting the park superintendent. The purpose of these meetings is to explain the planning process and to obtain comments concerning appropriate resource management desired visitor use, interpretation, facilities, and issues that need to be resolved. In addition to attending scoping meetings, people wishing to provide input to this initial phase of developing GMP may address comments to the superintendent. Scoping comments should be received no later than 60 days from the publication of this Notice of Intent.

Comments: If you wish to submit issues or provide input to this initial phase of developing GMP, you may do so by any one of several methods. In addition to attending scoping meetings, you may mail comments to Park Manager, Monocacy National Battlefield, 4801 Urbana Pike, Frederick, Maryland 21704-7307. You may comment via the Internet to susan_trail@nps.gov. Please submit Internet comments as an ASCII file avoiding the use of special characters and any form of encryption. Please also include “Attention: GMP Team” and your name and return address in your Internet message. If you do not receive a confirmation from the system that we have received your Internet message, contact Park Manager Susan Trail, directly, at (301) 662-6980. Finally, you may hand-deliver your comments to park headquarters, Monocacy National Battlefield, 4801 Urbana Pike, Frederick, Maryland. Scoping comments should be received no later than 60 days from the publication of this Notice of Intent. Our practice is to make comments, including names and home addresses of respondents, available for public review during regular business hours. Individual respondents may request that we withhold their home addresses from the record, which we will honor to the extent allowable by law. There also may be circumstances in which we would withhold, from the record, a respondent's identify, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Park Manager Susan Trail, 4801 Urbana Pike, Frederick, Maryland 21704-7307; telephone: (301) 662-6980; fax: (301) 662-3420; e-mail: susan_trail@nps.gov.

Terry R. Carlstrom,
Regional Director, National Capital Region.

[FR Doc. 02-24049 Filed 9-20-02; 8:45 am]

BILLING CODE 4310-70-M